CONSUMER PRODUCT SAFETY COMMISSION

Seminars About Mattress Flammability Standard (16 CFR Part 1633)

AGENCY: Consumer Product Safety Commission.

ACTION: Notice of seminars.

SUMMARY: The staff of the Consumer Product Safety Commission (“CPSC” or “the Commission”) will conduct two seminars to help mattress manufacturers, importers, retailers and others in the mattress industry better understand the requirements of the Commission's new mattress flammability standard so that they will be prepared when the standard goes into effect on July 1, 2007. The seminars will take a practical approach and will focus on the following topics: developing a prototyping plan, ensuring compliance through quality control, and working with a test lab to conduct the required testing.

One seminar will be at CPSC's headquarters in Bethesda, Maryland on Wednesday, March 28, 2007. The other will be held in San Diego, California on Wednesday, April 11, 2007. See the ADDRESSES section of this notice for location details. The seminars are free, public events, but registration is required for each attendee. Please register on the Commission's Web site at http://www.cpsc.gov/businfo/mattressseminar.html or, if you do not have access to a computer, call Heather E. Sonabend at 301-504-7615.

Persons who would like to present information at the seminars that could be helpful to mattress manufacturers should submit a request outlining their presentation. These requests must be submitted on the CPSC's Web site no later than February 28, 2007. Persons may also request to set up a table-top display with information that could assist manufacturers in complying with the mattress flammability standard. These requests must also be submitted on CPSC's Web site no later than February 28, 2007. Selected presenters will be notified by March 7, 2007. If presenting information, the presentation must be offered at both seminars. Persons may also submit questions that they would like to have addressed by presenters at the seminars related to the topics described in this notice. Such questions must be submitted on the CPSC's Web site, http://www.cpsc.gov/businfo/mattressseminar.html, no later than February 28, 2007. All participants and attendees are prohibited from selling or soliciting sales of their products at the seminars.

DATES: The seminars will be held on March 28 in Bethesda, Maryland from 8 a.m. to 5 p.m. and April 11 in San Diego, California from 9 a.m. to 5 p.m. Requests to make a presentation, including an outline of their presentation, or to set up a table-top display, must be submitted on CPSC's Web site no later than February 28, 2007. Questions for the presenters must be submitted on CPSC's Web site, http://www.cpsc.gov/businfo/mattressseminar.html, no later than February 28, 2007.

ADDRESSES: The seminars will take place at CPSC headquarters, 4330 East West Highway, Hearing Room (4th floor), Bethesda, Maryland 20814 and at the San Diego State Building, 1350 Front Street, Room B-109, San Diego, California. To register for the seminars or to request to make a presentation, provide a table-top display, or submit questions please go to the Commission's Web site, http://www.cpsc.gov/businfo/mattressseminar.html. If you do not have access to a computer, contact Heather E. Sonabend, (301) 504-7615.

FOR FURTHER INFORMATION CONTACT: For information about the seminars, contact Allyson Tenney, Directorate for Engineering Sciences, Consumer Product Safety Commission, 4330 East-West Highway, Bethesda, Maryland 20814, (301) 504-7567; e-mail atenney@cpsc.gov or contact Mary Toro, Office of Compliance, Consumer Product Safety Commission, 4330 East-West Highway, Bethesda, Maryland 20814, (301) 504-7586; e-mail mtoro@cpsc.gov.

SUPPLEMENTARY INFORMATION:

A. Background

On March 15, 2006, the Commission published the Standard for the Flammability (Open Flame) of Mattress Sets, 16 CFR part 1633, 71 FR 13472. The standard establishes performance requirements that all mattress sets manufactured, imported or renovated on or after July 1, 2007 must meet. With certain exceptions, the standard requires mattress manufacturers to test three specimens of each prototype before a mattress set is introduced into commerce. A prototype is a specific design of a mattress set that serves as a model for the production units that will be introduced into commerce.

Because small variations in construction of a mattress set can affect fire performance, the standard establishes certain quality assurance requirements. The standard also requires manufacturers to maintain certain records to document compliance with the standard.

This is a complex standard with requirements that must be closely followed to ensure that mattress sets will comply with the standard's criteria. As the standard's effective date of July 1, 2007 approaches, the Commission staff recognizes that mattress manufacturers, importers and retailers need practical information on what they must do to be sure their mattresses will meet the standard.

B. The Seminars

The Commission staff is scheduling two seminars, one on the East Coast (Bethesda, Maryland) and one on the West Coast (San Diego, California). The CPSC staff anticipates that the seminars will occur over one day, but staff will be available at the seminar location on the following day to answer questions if desired. Most of the day will be spent with panel discussions on the topics listed below followed by smaller break-out sessions on the topics of testing/labs issues; prototype/component issues; and compliance/recordkeeping issues.

The seminars are free, public events, but registration is required for each attendee. Please register on the Commission's Web site at http://www.cpsc.gov/businfo/mattressseminar.html or, if you do not have access to a computer, contact Heather E. Sonabend, (301) 504-7615. Registration is limited to 150 attendees at each location. No more than three individuals from an organization may attend each seminar.

The CPSC staff is requesting submissions from persons who wish to make presentations at the seminars, set up table-top displays with information that could assist mattress manufacturers, or ask questions of the presenters or CPSC staff. Note that the Commission cannot endorse any particular products or companies. All participants are prohibited from selling or soliciting sales of their products at the seminars. The presentations, table-top displays and questions should be informational, not promotional. Also note that if presenting information, the presentation must be offered at both seminars.

At each seminar there will be three panels. Each panel will have three selected presenters, each of whom will make a 15 minute presentation. The panels will cover (and presentations should address) the following topics:

• Panel 1: Prototyping—how to develop a plan; Component selection; and Production—the necessities of building a compliant mattress.

• Panel 2: Quality Control—ensuring compliance through production; and Electronic records and recordkeeping.

• Panel 3: Testing—Working with a lab; Where and how to locate a lab; and What to ask.

Table-top displays should present information that will be helpful to mattress manufacturers as they seek to understand and comply with the standard. The displays may include various products and components that would assist manufacturers in developing prototypes that meet the standard. Displays could also include information on construction techniques, quality assurance programs, and/or testing. No more than 20 table-top displays will be permitted. The Commission cannot endorse any particular products or companies, and a statement to that effect will be shown near the table-top displays. No sales may be solicited or made at the seminars.

Questions for the presenters and/or CPSC staff should pertain to the following topics:

• Scope of the standard,

• Prototyping,

• Quality control/production,

• Component issues,

• Testing, and

• Recordkeeping.

Outlines of presentations, descriptions of table-top displays and questions must be submitted in advance in accordance with the dates and procedures listed in the DATES and ADDRESSES sections of this notice. The Commission staff reserves the right to edit any presentations, displays or questions.

Dated: February 14, 2007.
Todd A. Stevenson,
Secretary, Consumer Product Safety Commission.

[FR Doc. E7-2911 Filed 2-21-07; 8:45 am]

BILLING CODE 6355-01-P